FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than December 5, 2016.

A. Federal Reserve Bank of Kansas City (Dennis Denney, Assistant Vice President) 1 Memorial Drive, Kansas City, Missouri 64198-0001:

1. Matthew A. Michaelis, Wichita Kansas, as proposed trustee of the Isabella Michaelis EFC Trust, the Margaret Michaelis EFC Trust, and the Henry Michaelis EFC Trust; Amy L. Madsen, Wichita, Kansas, as proposed trustee of the Mallory Loflin EFC Trust, the Mick Madsen EFC Trust, and the Morgan Madsen EFC Trust; and Laura L. Haunschild, Redwood, California, as proposed trustee of the Walter Bachmann EFC Trust, the Karl Bachman EFC Trust, and the Markus Bachmann EFC Trust; and each of the trusts, to acquire shares of Emprise Financial Corporation, Wichita, Kansas, as members of the Michaelis Family Group. Emprise Financial Corporation controls Emprise Bank, Wichita, Kansas.

Board of Governors of the Federal Reserve System, November 14, 2016.
Yao-Chin Chao,
Assistant Secretary of the Board.

[FR Doc. 2016-27719 Filed 11-17-16; 8:45 am]

BILLING CODE 6210-01-P